DEPARTMENT OF COMMERCE

International Trade Administration

[A-533-813]

Certain Preserved Mushrooms From India: Notice of Partial Rescission of Antidumping Duty Administrative Review

AGENCY: Import Administration, International Trade Administration, Department of Commerce.

ACTION: Notice of Partial Rescission of Antidumping Duty Administrative Review

EFFECTIVE DATE: August 13, 2001.

FOR FURTHER INFORMATION CONTACT: David J. Goldberger or Kate Johnson, Import Administration, International Trade Administration, U.S. Department of Commerce, 14th Street and Constitution Avenue, NW., Washington, DC 20230; telephone: (202) 482-4136 or (202) 482-4929, respectively.

SUPPLEMENTARY INFORMATION:

Applicable Statute

Unless otherwise indicated, all citations to the Tariff Act of 1930, as amended (the Act), are references to the provisions effective January 1, 1995, the effective date of the amendments made to the Act by the Uruguay Round Agreements Act. In addition, unless otherwise indicated, all citations to the Department of Commerce's regulations are to 19 CFR part 351 (2000).

Background

On February 14, 2001, the Department published in the Federal Register (66 FR 10269) a notice of “Opportunity To Request Administrative Review” of the antidumping duty order on certain preserved mushrooms from India for the period February 1, 2000, through January 31, 2001. On February 26, 2001, Agro Dutch Foods, Ltd., Himalya International, and Hindustan Lever Limited (formerly Ponds India, Ltd.) requested an administrative review of their sales for the above-mentioned period, and on February 27, 2001, Weikfield Agro Products, Ltd, requested an administrative review of its sales for the same period. On February 29, 2001, the petitioner ¹ requested an administrative review of the above-referenced antidumping duty order for the period February 1, 2000, through January 31, 2001, for the following companies: Agro Dutch Foods, Ltd., Alpine Biotech, Ltd., Mandeep Mushrooms, Ltd., Hindustan Lever Limited, Saptarishi Agro Industries, Ltd., Techtran Agro Industries, Ltd., Transchem, Ltd., Premier Mushroom Farms, Flex Foods, Ltd., Weikfield Agro Products, Ltd., Dinesh Agro Products, Ltd., and Himalya International. On March 22, 2001, the Department published a notice of initiation of an administrative review of the antidumping duty order on certain preserved mushrooms from India with respect to these companies. See Initiation of Antidumping and Countervailing Duty Administrative Reviews and Requests for Revocations in Part, 66 FR 16037.

¹ The petitioner is the Coalition for Fair Preserved Mushroom Trade which includes the American Mushroom Institute and the following domestic companies: L.K. Bowman, Inc., Modern Mushroom Farms, Inc., Monterey Mushrooms, Inc., Mount Laurel Canning Corp., Mushroom Canning Company, Southwood Farms, Sunny Dell Foods, Inc., and United Canning Corp.

Partial Recission of Review

On April 23, 2001, Hindustan Lever Limited timely withdrew its request for an administrative review of its sales during the above-referenced period. On April 24 and June 14, 2001, the petitioner timely withdrew its request for review with respect to the following companies: Alpine Biotech, Ltd., Dinesh Agro Products, Ltd., Flex Foods, Ltd., Hindustan Lever Limited, Mandeep Mushrooms, Ltd., Premier Mushroom Farms, Techtran Agro Industries, and Transchem Ltd. Section 351.213(d)(1) of the Department's regulations stipulates that the Secretary may permit a party that requests a review to withdraw the request within 90 days of the date of publication of notice of initiation of the requested review. In this case, the petitioner and Hindustan Lever Limited have withdrawn their requests for review within the 90-day period. We have received no other submissions regarding the petitioner's and Hindustan Lever Limited's withdrawal of their requests for review. Therefore, we are rescinding in part this review of the antidumping duty order on certain preserved mushrooms from India as to Alpine Biotech, Ltd., Dinesh Agro Products, Ltd., Flex Foods, Ltd., Hindustan Lever Limited, Mandeep Mushrooms, Ltd., Premier Mushroom Farms, Techtran Agro Industries, and Transchem Ltd. This review will continue with respect to Agro Dutch Foods, Ltd., Himalya International, Saptarishi Agro Industries, Ltd., and Weikfield Agro Products, Ltd.

This notice is published in accordance with section 751 of the Act and 19 CFR 351.213(d)(4).

Dated: July 3, 2001.
Richard W. Moreland,
Deputy Assistant Secretary for Import Administration.

[FR Doc. 01-17623 Filed 7-12-01; 8:45 am]

BILLING CODE 3510-DS-P